SMALL BUSINESS ADMINISTRATION

13 CFR Parts 124 and 126

RIN 3245-AG38; 3245-AG94

Tribal Consultation for Small Business HUBZone Program and Government Contracting Programs and Consolidation of Mentor Protégé Programs and Other Government Contracting Amendments

AGENCY: U.S. Small Business Administration.

ACTION: Notification of tribal consultation meeting.

SUMMARY: The U.S. Small Business Administration (SBA) announces that it is holding a tribal consultation meeting in Anchorage, Alaska concerning the regulations governing the 8(a) Business Development (BD) program and the HUBZone program. SBA seeks to reduce unnecessary or excessive regulatory burdens in those programs and to make them more attractive to procuring agencies and small businesses. Testimony presented at this tribal consultation will become part of the administrative record for SBA's consideration when the Agency deliberates on approaches to changes in the regulations pertaining to these programs.

DATES: The Tribal Consultation meeting date is Wednesday, May 9, 2018, 10:00 a.m. to 3:00 p.m. (AKDT), Anchorage, Alaska. The Tribal Consultation meeting pre-registration deadline date is May 2, 2018.

ADDRESSES:

1. The Tribal Consultation meeting will be held at Z.J. Loussac Public Library, 3600 Denali Street, Anchorage, AK 99503.

2. Send pre-registration requests to attend and/or testify to Chequita Carter of SBA's Office of Native American Affairs, U.S. Small Business Administration, 409 3rd Street SW, Washington, DC 20416; Chequita.Carter@sba.gov; or Facsimile to (202) 481-2177.

3. You may submit comments, identified by RIN 3245-AG38, for Small Business HUBZone Program and Government Contracting Programs and RIN 3245-AG94, for Consolidation of Mentor Protégé Programs and Other Government Contracting Amendments, by any of the following methods:

• Federal eRulemaking Portal: http://www.regulations.gov and follow the instructions for submitting comments.

• Mail (for paper, disk, or CD-ROM submissions): To Kenneth Dodds, Director, Office of Procurement Policy and Liaison, U.S. Small Business Administration, 409 3rd Street SW, Washington, DC 20416; or Kenneth.Dodds@sba.gov; or Facsimile to (202) 481-2950, 409 Third Street SW, Washington, DC 20416.

Instructions: All submissions received must include the agency name and docket number or Regulatory Information Number (RIN) for this rulemaking. All comments received will be posted on http://www.regulations.gov. If you wish to submit confidential business information (CBI) as defined in the User Notice at http://www.regulations.gov, please submit the comments to Kenneth Dodds and highlight the information that you consider to be CBI and explain why you believe this information should be held confidential. SBA will make a final determination as to whether the comments will be published or not.

FOR FURTHER INFORMATION CONTACT: Chequita Carter, Program Assistant for SBA's Office of Native American Affairs, at Chequita.Carter@sba.gov or (202) 205-6680 or by facsimile to (202) 481-2177.

SUPPLEMENTARY INFORMATION:

I. Background

SBA is contemplating making substantive changes to the regulations governing both the 8(a) BD (13 CFR part 124) and HUBZone (13 CFR part 126) programs, and requests comments and input on how best to reduce unnecessary or excessive regulatory burdens in those programs. Particularly, SBA is interested in comments related to two planned rulemakings: (1) Small Business HUBZone Program and Government Contracting Programs (RIN 3245-AG38); and (2) Consolidation of Mentor Protégé Programs and Other Government Contracting Amendments (RIN 3245-AG94). The first-mentioned planned rulemaking would constitute a comprehensive revision of part 126 of SBA's regulations to clarify current HUBZone program regulations, and implement various new procedures. The latter planned rulemaking would consolidate the All Small Mentor Protégé Program and the 8(a) Mentor Protégé Program into one program and would revise SBA's process for approving management changes in entity-owned 8(a) firms. It is SBA's intent to implement changes that will make it easier for small business concerns to understand and comply with the programs' requirements. SBA is also seeking to make these programs more effective and improve the delivery of them to the small business community. SBA understands that some of its regulations have significantly adversely affected small business concerns owned and controlled by tribes and Alaska Native Corporations (ANCs), including 8(a) change of ownership requirements, and seeks tribal participation to ease these burdens. Additionally, SBA notes that the HUBZone program is often not being fully utilized by procuring agencies, and seeks input on what changes could be made to make the HUBZone program more attractive to both procuring agencies and small businesses.

II. Tribal Consultation Meeting

The purpose of this tribal consultation meeting is to conform to the requirements of Executive Order 13175, Tribal Consultations; to provide interested parties with an opportunity to discuss their views on the issues; and for SBA to obtain the views of SBA's stakeholders on approaches to the 8(a) BD program and HUBZone program regulations. SBA considers tribal consultation meetings a valuable component of its deliberations and believes that this tribal consultation meeting will allow for constructive dialogue with the Tribal community, Tribal Leaders, Tribal Elders, elected members of Alaska Native Villages or their appointed representatives, and principals of tribally-owned and ANC-owned firms participating in the 8(a) BD and HUBZone programs. SBA intends to hold additional tribal consultations in order to obtain comments and input from Tribal communities representing other geographic regions.

The format of this tribal consultation meeting will consist of a panel of SBA representatives who will preside over the session. The oral and written testimony as well as any comments SBA receives will become part of the administrative record for SBA's consideration. Written testimony may be submitted in lieu of oral testimony. SBA will analyze the testimony, both oral and written, along with any written comments received. SBA officials may ask questions of a presenter to clarify or further explain the testimony. The purpose of the tribal consultation is to assist SBA with gathering information to guide SBA's review process and to potentially develop new proposals. SBA requests that the comments focus on SBA's two planned rulemakings relating to the 8(a) BD and HUBZone programs, general issues as they pertain to the 8(a) BD and HUBZone regulations, input related to what changes could be made to make these programs more attractive to procuring agencies and small businesses, or the unique concerns of the Tribal communities. SBA requests that commenters do not raise issues pertaining to other SBA small business programs. Presenters are encouraged to provide a written copy of their testimony. SBA will accept written material that the presenter wishes to provide that further supplements his or her testimony. Electronic or digitized copies are encouraged.

The tribal consultation meeting will be held for one day. The meeting will begin at 10:00 a.m. and end at 3:30 p.m. (AKDT), with a break from 12:30 p.m. to 1:30 p.m. SBA will adjourn early if all those scheduled have delivered their testimony.

III. Registration

SBA respectfully requests that any elected or appointed representative of the tribal communities or principal of a tribally-owned or ANC-owned 8(a) firm that is interested in attending please pre-register in advance and indicate whether you would like to testify at the hearing. Registration requests should be received by SBA by May 2, 2018. Please contact Chequita Carter of SBA's Office of Native American Affairs in writing at Chequita.Carter@sba.gov or by facsimile to (202) 481-2177. If you are interested in testifying please include the following information relating to the person testifying: Name, Organization affiliation, Address, Telephone number, Email address and Fax number. SBA will attempt to accommodate all interested parties that wish to present testimony. Based on the number of registrants it may be necessary to impose time limits to ensure that everyone who wishes to testify has the opportunity to do so. SBA will confirm in writing the registration of presenters and attendees.

IV. Information on Service for Individuals With Disabilities

For information on facilities or services for individuals with disabilities or to request special assistance at the tribal consultation meeting, contact Chequita Carter at the telephone number or email address indicated under the FOR FURTHER INFORMATION CONTACT section of this notice.

Authority: 15 U.S.C. 634 and E.O. 13175, 65 FR 67249.

Allen Gutierrez,
Associate Administrator for the Office of Entrepreneurial Development.

[FR Doc. 2018-08410 Filed 4-20-18; 8:45 am]

BILLING CODE 8025-01-P